DEPARTMENT OF HOMELAND SECURITY

Coast Guard

[Docket No. USCG-2010-0708]

Navigation Safety Advisory Council; Vacancies

AGENCY: Coast Guard, DHS.

ACTION: Request for applications.

SUMMARY: The Coast Guard seeks applications for membership on the Navigation Safety Advisory Council (NAVSAC). This Committee advises the Coast Guard on a wide range of issues related to navigation safety such as the prevention of collisions, rammings, and groundings. This includes, but is not limited to: Inland and International Rules of the Road, navigation regulations and equipment, routing measures, marine information, and aids to navigation systems.

DATES: Completed application forms should reach us on or before September 13, 2010.

ADDRESSES: A copy of the application form, as well as this notice, is available in our online docket, USCG-2010-0708, at http://www.regulations.gov. Or, you may request an application form by writing Mr. Mike Sollosi, Designated Federal Officer (DFO) of NAVSAC, at Commandant (CG-553), U.S. Coast Guard, 2100 Second Street, SW., Stop 7683, Washington, DC 20593-7683; by calling 202-372-1531; or by faxing 202-372-1991. Send your completed application to the DFO at the street address above.

FOR FURTHER INFORMATION CONTACT: Mr. Dennis Fahr, Assistant to the DFO of NAVSAC; telephone 202-372-1531, fax 202-372-1991, or e-mail Dennis.Fahr@uscg.mil.

SUPPLEMENTARY INFORMATION: The Navigation Safety Advisory Council (NAVSAC) (“Committee”) is a Federal advisory committee under 5 U.S.C. App. (Pub. L. 92-463). It was established under authority of Section 5 of the Inland Navigational Rules Act of 1980 (33 U.S.C. 2073) establishing the Rules of the Road Advisory Council (RORAC), and the Coast Guard Authorization Act of 1989 (Pub. L. 101-225, December 12, 1989) expanding the scope and changing the name of the Committee to the Navigation Safety Advisory Council. The Committee advises the Coast Guard on matters related to navigation safety such as the prevention of collisions, rammings, and groundings.

The Committee meets at least annually in Washington, DC, or another location selected by the Coast Guard. It may also meet for extraordinary purposes. Its subcommittees and working groups may meet to consider specific problems and issues as required.

We will consider applications for seven positions that expire or become vacant in November 2010. To be eligible, you should have experience in the Inland and International Rules of the Road, aids to navigation, navigational safety equipment, vessel traffic services, and vessel routing measures.

Registered lobbyists are not eligible to serve on Federal Advisory Committees. Registered lobbyists are lobbyists required to comply with provisions contained in the Lobbying Disclosure Act of 1995 (Pub. L. 104-65, as amended).

Each member serves for a term of three years. Individuals appointed as the Committee Chair or Vice-Chair may serve three consecutive three year terms. All members serve at their own expense and receive no salary but will receive reimbursement of travel and per diem expenses from the Federal Government for committee related expenses.

Members will be chosen from persons representing, insofar as practical, the following groups: Two persons from among recognized experts and leaders in organizations having an active interest in the Rules of the Road and vessel and port safety (Group One); three persons representing the interests of owners and operators of vessels, professional mariners, recreational boaters, and the recreational boating industry (Group Two); one person who is a lawyer licensed by a state and who either practices or teaches admiralty and maritime law (Group Three); and, one person who is a Federal or state official with responsibility for vessel and port safety (Group Four).

Group One Members. All Group One members serve as Special Government Employees (SGE). The Group One term “organizations having an active interest in the Rules of the Road and vessel and port safety” includes: Organizations that represent owners and operators of vessels operating on international waters and inland waters of the United States; Federal and state maritime academies; maritime education and training institutions teaching Rules of the Road, navigation, and electronic navigation; and organizations established to facilitate vessel movement and navigational safety.

Group Two Members. All Group Two members serve as members representing the interests of owners and operators of vessels, professional mariners, recreational boaters, and the recreational boating industry and are not Special Government Employees (SGE). Group Two members must be active or retired mariners experienced in applying the Inland and/or International Rules as masters or licensed deck officers of vessels operating on international waters or the inland waters of the United States, or be Federal or state licensed pilots.

Group Three Members. All Group Three members serve as Special Government Employees (SGE). All Group Three members must be lawyers licensed by a state who either practice admiralty and maritime law or who teach admiralty and maritime law.

Group Four Members. Group Four consists of Federal and state officials with responsibility for vessel and port safety. Federal officials who serve as Group Four members serve as Regular Government Employees. The Group Four term “state officials” includes government and agency officials from state, regional and local levels. Those officials who serve as Group Four members serve as members representing the interests of their state, regional, or local government and are not Special Government Employees (SGE).

As stated above, Group One and Group Three members will serve as Special Government Employees (SGE) as defined in section 202(a) of title 18, United States Code. Candidates for appointment as SGEs must complete a Confidential Financial Disclosure Report (OGE Form 450). A completed OGE Form 450 is not releasable to the public except under an order issued by a Federal court or as otherwise provided under the Privacy Act (5 U.S.C. 552a). Only the Designated Agency Ethics Official or the DAEO's designate may release a Confidential Financial Disclosure Report.

The Coast Guard values diversity and recognizes that different characteristics and attributes of persons will enhance the Coast Guard and improve the services we deliver to the public. In support of Coast Guard policy on gender and ethnic nondiscrimination, we encourage qualified men and women and members of all racial and ethnic groups to apply.

If you are interested in applying to become a member of the Committee, send a completed application to Mr. Mike Sollosi, Designated Federal Officer (DFO) of NAVSAC at Commandant (CG-553), U.S. Coast Guard, 2100 Second Street, SW., Stop 7683, Washington, DC 20593-7683; or by fax at 202-372-1991. Send the application in time for it to be received by the DFO on or before September 13, 2010.

A copy of the application form is available in the docket for this notice. To visit our online docket, go to http://www.regulations.gov, enter the docket number for this notice (USCG-2010-0708) in the Search box, and click “Go >>.”

Dated: August 6, 2010.
D.A. Goward,
Acting Director, Marine Transportation Systems Management.

[FR Doc. 2010-19974 Filed 8-12-10; 8:45 am]

BILLING CODE 9110-04-P